TENNESSEE VALLEY AUTHORITY

Webinar Meeting of the Regional Resource Stewardship Council

AGENCY: Tennessee Valley Authority (TVA).

ACTION: Notice of meeting.

SUMMARY: The TVA Regional Resource Stewardship Council (RRSC) will hold a virtual meeting on Tuesday, July 21, 2020, to consider various matters. The RRSC was established to advise TVA on its natural resources and stewardship activities and the priority to be placed among competing objectives and values. Notice of this meeting is given under the Federal Advisory Committee Act (FACA).

DATES: The meeting will be held Tuesday, July 21, 2020, and run from 9:30 a.m. to 3:00 p.m., EDT. An hour break from 12:00 p.m.-1:00 p.m., EDT is scheduled.

ADDRESSES: This is a virtual meeting only. An individual requiring special accommodation for a disability should let the contact below know at least a week in advance.

FOR FURTHER INFORMATION CONTACT: Cathy Coffey, 865-632-4494, ccoffey@tva.gov.

SUPPLEMENTARY INFORMATION: The meeting agenda includes the following items:

1. Introductions and webinar logistics

2. Pollinator study

3. Environmental Policy

4. Update on Asian Carp

5. Public Comments

6. Council Discussion and Advice

7. Natural Resources Plan Update

The meeting is open to the public. Please register in advance at: https://bit.ly/2NowQde. Public comments will be accepted that afternoon for 30 minutes at 1:00 p.m., EDT. In order to make oral comments, the public must pre-register by 5:00 p.m. on Monday, July 20, 2020, by emailing ccoffey@tva.gov. Due to time limitations, speakers will be given two minutes to address the council. Written comments may be sent to the RRSC at any time through links on TVA's website at www.tva.com/rrsc.

Dated: June 26, 2020.
Joseph J. Hoagland,
Vice President, Innovation and Research, Tennessee Valley Authority.

[FR Doc. 2020-14466 Filed 7-6-20; 8:45 am]

BILLING CODE 8120-08-P